NATIONAL SCIENCE FOUNDATION

Request for Public Comment: Interagency Arctic Research Policy Committee Draft Arctic Research Plan; Correction

AGENCY: National Science Foundation.

ACTION: Notice; correction.

SUMMARY: The National Science Foundation (NSF) published a document in the Federal Register of March 9, 2021, concerning a request for public comment on the draft Arctic Research Plan: 2022-2026. The notice was published with two due dates for comments.

SUPPLEMENTARY INFORMATION:

Correction

In the Federal Register of March 9, 2021, in FR Doc. 2021-04842, on page 13588, in the second column, correct the first sentence of the Dates caption to read:

DATES: Written comments must be submitted no later than June 11, 2021.

Dated: March 9, 2021.
Suzanne H. Plimpton,
Reports Clearance Officer, National Science Foundation.

[FR Doc. 2021-05201 Filed 3-18-21; 8:45 am]

BILLING CODE 7555-01-P